DEPARTMENT OF COMMERCE

International Trade Administration

[A-570-822, A-583-820]

Certain Helical Spring Lock Washers from the People's Republic of China and Taiwan: Final Results of the Expedited Sunset Reviews of the Antidumping Duty Orders

AGENCY: Import Administration, International Trade Administration, Department of Commerce.

SUMMARY: On January 3, 2006, the Department of Commerce (“the Department”) initiated sunset reviews of the antidumping duty orders on certain helical spring lock washers from the People's Republic of China (“PRC”) and Taiwan, pursuant to section 751(c) of the Tariff Act of 1930, as amended (“the Act”). On the basis of the notice of intent to participate and adequate substantive responses filed on behalf of the domestic interested parties, and inadequate responses from respondent interested parties, the Department conducted expedited sunset reviews. As a result of these sunset reviews, the Department finds that revocation of the antidumping duty orders would likely lead to continuation or recurrence of dumping at the levels listed below in the section entitled “Final Results of Reviews.”

EFFECTIVE DATE: May 10, 2006.

FOR FURTHER INFORMATION CONTACT: Jim Nunno, AD/CVD Operations, Import Administration, International Trade Administration, U.S. Department of Commerce, 14th Street and Constitution Avenue, NW., Washington, DC, 20230; telephone: (202) 482-0783.

SUPPLEMENTARY INFORMATION:

Background

On January 3, 2006, the Department initiated sunset reviews of the antidumping duty orders on certain helical spring lock washers (“HSLWs”) from the PRC and Taiwan pursuant to section 751(c) of the Act. See Initiation of Five-year (“Sunset”) Reviews, 70 FR 91 (January 3, 2006). The Department received notices of intent to participate from a domestic interested party, Shakeproof Assembly Components Division of Illinois Tool Works Inc. (“Shakeproof”), within the deadline specified in section 351.218(d)(1)(i) of the Department's regulations. Shakeproof claimed interested party status pursuant to section 771(9)(C) of the Act as a U.S. producer of the domestic like product. We received a submission from the domestic interested party within the 30-day deadline specified in section 351.218(d)(3)(i) of the Department's regulations. However, we did not receive submissions from any respondent interested parties. As a result, pursuant to section 751(c)(3)(B) of the Act and section 351.218(e)(1)(ii)(C)(2) of the Department's regulations, the Department conducted expedited sunset reviews of these orders.

Scope of the Orders

The products covered by both antidumping duty orders are HSLWs of carbon steel, of carbon alloy steel, or of stainless steel, heat-treated or non-heat-treated, plated or non-plated, with ends that are off-line. HSLWs are designed to: (1) Function as a spring to compensate for developed looseness between the component parts of a fastened assembly; (2) distribute the load over a larger area for screws or bolts; and (3) provide a hardened bearing surface. The scope does not include internal or external tooth washers, nor does it include spring lock washers made of other metals, such as copper.

HSLWs subject to the order are currently classifiable under subheading 7318.21.0030 of the Harmonized Tariff Schedule of the United States (HTSUS). Although the HTSUS subheading is provided for convenience and customs purposes, the written description of the scope of this proceeding is dispositive.

On September 30, 1997, the Department determined that HSLWs which are imported into the United States in an uncut, coil form are within the scope of the orders. See Notice of Scope Rulings, 62 FR 62288 (November 21, 1997).

Analysis of Comments Received

All issues raised in these cases are addressed in the “Issues and Decision Memorandum” from Stephen J. Claeys, Deputy Assistant Secretary for Import Administration, to David M. Spooner, Assistant Secretary for Import Administration, dated May 3, 2006 (“Decision Memorandum”), which is hereby adopted by this notice. The issues discussed in the Decision Memorandum include the likelihood of continuation or recurrence of dumping and the magnitude of the margin likely to prevail if the orders were revoked. Parties can find a complete discussion of all issues raised in these sunset reviews and the corresponding recommendations in this public memorandum, which is on file in room B-099 of the main Department of Commerce building.

In addition, a complete version of the Decision Memorandum can be accessed directly on our Web site at http://ia.ita.doc.gov/. The paper copy and electronic version of the Decision Memorandum are identical in content.

Final Results of Reviews

We determine that revocation of the antidumping duty orders on HSLWs from the PRC and Taiwan would likely lead to continuation or recurrence of dumping at the following weighted-average percentage margins:

Manufacturers/Exporters/Producers | Weighted-Average Margin (Percent)
PRC
Zhejiang Wanxin Group Co., Ltd.a/k/a Hangzhou Spring Washer Plant (“HSWP”) | 69.88
HSWP via IFI Morgan Limited | 69.88
HSWP via Carway Development Ltd. | 69.88
HSWP via Midway Fasteners Ltd. | 69.88
HSWP via Linkwell Industry Co., Ltd. | 69.88
HSWP via Fastwell Industry Co., Ltd. | 69.88
HSWP via Sunfast International Corp. | 69.88
HSWP via Winner Standard Parts Co., Ltd. | 69.88
PRC-wide Rate | 128.63
Taiwan
Spring Lake Enterprises Co., Ltd. | 31.93
Ceimiko Industrial Co., Ltd. | 31.93
Par Excellence Industrial Co., Ltd | 31.93
All Others Rate | 31.93

This notice also serves as the only reminder to parties subject to administrative protective orders (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Act.

Dated: May 3, 2006.
David M. Spooner,
Assistant Secretary for Import Administration.

[FR Doc. E6-7131 Filed 5-9-06; 8:45 am]

BILLING CODE 3510-DS-S